DEPARTMENT OF DEFENSE

Department of the Navy

Notice of Additional Public Scoping Meeting In Meridian, Mississippi, for the Environmental Impact Statement for Introduction of the Atlantic Fleet F/A-18 E/F Aircraft on the East Coast of the United States

AGENCY: Department of the Navy, DOD.

ACTION: Notice.

SUMMARY: Pursuant to Section 102(2)(c) of the National Environmental Policy Act (NEPA) of 1969, as implemented by the Council on Environmental Quality regulations (40 CFR Parts 1500-1508), the Department of the Navy (Navy) announced its intent to prepare an Environmental Impact Statement (EIS) to evaluate the potential environmental consequences of the introduction of the Atlantic Fleet F/A-18 E/F aircraft on the East Coast of the United States. The Notice of Intent and Public Scoping Meetings appeared in the Federal Register on June 26, 2000 (65 FR 39373). One additional Public Scoping Meeting has been scheduled subsequent to that notice.

DATES: One additional public scoping open house will be held to receive oral and/or written comments on environmental concerns that should be addressed in the EIS. A public scoping open house will be held from 4:00 p.m. to 9:00 p.m. on August 15, 2000.

ADDRESSES: The open house will be held at East Mississippi Electric Power Association, 2128 Highway 39 North, Meridian, Mississippi.

FOR FURTHER INFORMATION CONTACT: Mr. Dan Cecchini (Code 2032), Atlantic Division, Naval Facilities Engineering Command, 1510 Gilbert Street, Norfolk, Virginia 23511; telephone (757) 322-4887, fax (757) 322-4984.

SUPPLEMENTARY INFORMATION: The Navy has decided to purchase F/A-18 E/F aircraft because of its improved capabilities over earlier aircraft models. It is designed to fly farther and carry a heavier payload, which will make it a more effective tool for national defense. An EIS and Record of Decision (ROD) were completed in 1998 for the introduction of F/A-18 E/F aircraft on the West Coast. In 1999, the Navy began a phase-in of the F/A-18 E/F aircraft to NAS Lemoore, California. Introduction of the F/A-18 E/F aircraft in the Atlantic fleet area of responsibility will begin in 2004 and be completed by 2008.

The EIS will address the environmental impacts associated with basing and operation of the Atlantic fleet F/A-18 E/F aircraft on the East Coast, retirement of existing F-14 aircraft and earlier F/A-18 models, and new construction and/or renovation of buildings and other support facilities. In addition, the EIS will assess impacts on each local community and economy associated with relocation of military personnel to the area to support the operation and maintenance of the E/F squadrons.

The Navy is currently evaluating East Coast installations to develop reasonable F/A-18 E/F siting alternatives. To date, four Navy and Marine Corps air stations have been identified as potential receiving sites: Marine Corps Air Station (MCAS) Beaufort, South Carolina; MCAS Cherry Point, North Carolina; Naval Air Station (NAS) Oceana, Virginia; and NAS Meridian, Mississippi. Other siting alternatives are still being considered. The Navy's preferred alternative is to site all the Atlantic Fleet F/A-18 E/F squadrons at one location; however, splitting the squadrons between two bases is not precluded.

The Navy intends to analyze the potential environmental impacts of the introduction of the Atlantic Fleet F/A-18 E/F aircraft on the environment. This includes, but is not limited to air quality, plant and animal habitats, and water resources, such as streams. It will also evaluate potential effects on the surrounding communities, including land use patterns, transportation, housing, and the regional economy. Further, the Navy will examine potential effects on existing airspace, training range use, and on aircraft noise exposure levels in and around the bases.

The Navy has initiated a scoping process to identify community concerns and local issues that will be addressed in the EIS. Federal, state, local agencies, and interested persons are encouraged to provide oral and/or written comments to the Navy to identify environmental concerns that should be addressed in the EIS. To be most helpful, scoping comments should clearly describe the specific issues or topics that the EIS should address.

Written comments must be postmarked by September 8, 2000, and should be mailed to: Commander, Atlantic Division, Naval Facilities Engineering Command, 1510 Gilbert Street, Norfolk, Virginia 23511, Attn: Code 2032 (Mr. Dan Cecchini), telephone (757) 322-4887, fax (757) 322-4984.

Dated: July 25, 2000.
J.L. Roth,
Lieutenant Commander, Judge Advocate General's Corps, U.S. Navy, Federal Register Liaison Officer.

[FR Doc. 00-19160 Filed 7-27-00; 8:45 am]

BILLING CODE 3810-FF-P